ENVIRONMENTAL PROTECTION AGENCY

40 CFR Part 81

[EPA-HQ-OAR-2017-0003; FRL-9976-40-OAR]

Air Quality Designations for the 2010 Sulfur Dioxide (SO2) Primary National Ambient Air Quality Standard—Round 3—Supplemental Amendment

AGENCY: Environmental Protection Agency (EPA).

ACTION: Final rule.

SUMMARY: The Environmental Protection Agency (EPA) is withdrawing the designation of Unclassifiable for the Citrus County, Florida, area that the EPA originally promulgated on December 21, 2017, and is establishing a designation of Attainment/Unclassifiable for that area as part of promulgating initial air quality designations for certain areas in the United States (U.S.) for the 2010 sulfur dioxide (SO2) primary National Ambient Air Quality Standard (NAAQS). This action supplements our December 2017 action, which together comprise the third of four expected rounds of actions to designate areas of the U.S. for the 2010 SO2 NAAQS. This third round of designations is based on application of the EPA's nationwide analytical approach and technical analysis, including evaluation of monitoring data and air quality modeling, to determine the appropriate designation based on the weight of evidence for each area.

DATES: This final rule is effective on April 9, 2018.

ADDRESSES: The EPA has established a docket for this action under Docket ID No. EPA-HQ-OAR-2017-0003. All documents in the docket are listed in the index at http://www.regulations.gov website. Although listed in the index, some information is not publicly available, e.g., Confidential Business Information or other information whose disclosure is restricted by statute. Certain other material, such as copyrighted material, is not placed on the internet and will be publicly available only in hard copy form. Publicly available docket materials are available either electronically in the docket or in hard copy at the Docket, WJC West Building, Room 3334, 1301 Constitution Avenue NW, Washington, DC 20004. The hours of operation at the EPA Docket Center are 8:30 a.m.- 4:30 p.m., Monday-Friday. The telephone number for the Public Reading Room is (202) 566-1744. Air dispersion modeling input and output files are too large to post in the docket or on the website and must be requested from the EPA Docket Office or the Regional office contacts listed in the FOR FURTHER INFORMATION CONTACT section.

In addition, the EPA has established a website for the initial SO2 designations rulemakings at: https://www.epa.gov/sulfur-dioxide-designations. The website includes the EPA's final SO2 designations, as well as state and tribal recommendation letters, the EPA's modification letters, technical support documents, responses to comments and other related technical information.

FOR FURTHER INFORMATION CONTACT: For general questions concerning this action, please contact Liz Etchells, U.S. EPA, Office of Air Quality Planning and Standards, Air Quality Policy Division, C539-01, Research Triangle Park, NC 27709, telephone (919) 541-0253, email at etchells.elizabeth@epa.gov. The following EPA contacts can answer questions regarding areas in a particular EPA Regional office:

U.S. EPA Regional Office Contact:

Region IV—Twunjala Bradley, telephone (404) 562-9352, email at bradley.twunjala@epa.gov.

The public may inspect the rule and state-specific technical support information at the following locations:

Regional offices | States
R. Scott Davis, Chief, Air Planning and Implementation Branch, EPA Region IV, Sam Nunn Atlanta Federal Center, 61 Forsyth, Street SW, 12th Floor, Atlanta, GA 30303, (404) 562-9127 | Alabama, Florida, Georgia, Kentucky, Mississippi, North Carolina, South Carolina and Tennessee.

The information can also be reviewed online at https://www.epa.gov/sulfur-dioxide-designations and in the public docket for these SO2 designations at https://www.regulations.gov under Docket ID No. EPA-HQ-OAR-2017-0003.

SUPPLEMENTARY INFORMATION:

Table of Contents

The following is an outline of the Preamble.

I. Preamble Glossary of Terms and Acronyms

II. What is the purpose of this supplemental action?

III. Designation Decision Based on 2015-2017 Data

IV. Effective Date of This Action

V. Comments Received During the Third Round Public Comment Period Regarding Changing Final Designations

VI. Environmental Justice Concerns

VII. Statutory and Executive Order Reviews

A. Executive Order 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Government.

H. Executive Order 13045: Protection of Children From Environmental Health and Safety Risks

I. Executive Order 13211: Actions That Significantly Affect Energy Supply, Distribution or Use

J. National Technology Transfer and Advancement Act (NTTAA)

K. Executive Order 12898: Federal Actions To Address Environmental Justice in Minority Populations and Low-Income Populations

L. Congressional Review Act (CRA)

M. Judicial Review

I. Preamble Glossary of Terms and Acronyms

The following are abbreviations of terms used in the preamble.

APA Administrative Procedure Act

CAA Clean Air Act

CFR Code of Federal Regulations

DC District of Columbia

E.O. Executive Order

EPA Environmental Protection Agency

FR Federal Register

NAAQS National Ambient Air Quality Standards

NTTAA National Technology Transfer and Advancement Act

OMB Office of Management and Budget

SO2 Sulfur Dioxide

RFA Regulatory Flexibility Act

UMRA Unfunded Mandate Reform Act of 1995

TAR Tribal Authority Rule

TSD Technical Support Document

U.S. United States

II. What is the purpose of this supplemental action?

On December 21, 2017, the Administrator of the EPA promulgated a third round of initial air quality designations for certain areas in the U.S. for the 2010 SO2 primary NAAQS (83 FR 1098, January 9, 2018), in accordance with section 107(d) of the Clean Air Act (CAA). The list of newly designated areas in each state, the boundaries of each area, and the designation of each area, appear in the tables at the end of that action. Six areas were designated as Nonattainment; 23 areas were designated Unclassifiable; and the rest of the areas covered by the third round in all states, territories, and tribal lands were designated Attainment/Unclassifiable. The purpose of this action is to withdraw the SO2 designation for one area that we designated as Unclassifiable in the December 2017 action and designate that area as Attainment/Unclassifiable.

The December 2017 action provided that these designations be effective 90 days from the date of publication in the Federal Register (i.e., April 9, 2018). Because the designations were promulgated so close to the end of the 2017 calendar year, the EPA indicated in that action that if any state were to submit complete, quality-assured, certified 2017 data or related information about 2017 air quality to the EPA by February 28, 2018, that supported a change of the designation status for any area within that state, and if the EPA agreed that a change of designation status is appropriate, then we would withdraw the designation announced in the December 2017 action for the area and issue the appropriate designation that reflects the inclusion and analysis of such information. The EPA received such 2017 air quality information from the state of Florida prior to February 28, 2018, and this information is available in the docket for this action.¹ Based on our evaluation of these data, in this supplemental action, the EPA is changing the designation status from Unclassifiable to Attainment/Unclassifiable for one portion of Citrus County, Florida. The portion of Citrus County affected by this surrounds the Crystal River Power Plant.²

¹ Documents EPA-HQ-OAR-2017-0003-0701, EPA-HQ-OAR-2017-0003-0702, EPA-HQ-OAR-2017-0003-0703, and EPA-HQ-OAR-2017-0003-0704 in Docket ID No. EPA-HQ-OAR-2017-0003.

² Specifically, the boundary is comprised of census block groups 4504004 and 4505002.

The December 2017 action was based on application of the EPA's nationwide analytical approach and technical analysis, including evaluation of monitoring data and air quality modeling, to determine the appropriate designation based on the weight of evidence for each area, which are hereby incorporated by reference into this supplement of that action (see 83 FR at 1099-1100).

Modification to the initial designation for this area does not represent a “redesignation” because this change is a withdrawal of the initial designation prior to its effective date and issuance of a new initial designation. We are making this change to reflect the most recent 3 years of complete, quality-assured, and certified data that have become available prior to the effective date of the designations.

In the December 2017 action, we also stated that if certified 2017 data indicated a violation of the standard in an area we initially designated as Attainment/Unclassifiable or Unclassifiable, the EPA would evaluate the reason for the violation and determine the appropriate course of action, including the possibility of redesignation to Nonattainment. No states submitted certified 2017 data by February 28, 2018, to indicate a violation of the standard in any area initially designated as Attainment/Unclassifiable or Unclassifiable.

III. Designation Decision Based on 2015-2017 Data

On August 22, 2017, the EPA indicated an intent to designate a portion of Citrus County, Florida as Nonattainment based on the most recent three years, at that time, of complete, quality-assured, certified data from a monitor (2014-2016) indicating a violating 1-hr SO2 design value of 81 parts per billion (ppb). The EPA explained in its Technical Support Document (TSD) for the intended designations (See, Chapter 9, page 101) ³ that if, prior to the effective date of designations, the Citrus County SO2 monitor produced a valid attaining design value for the 2015-2017 period, and credible modeling was provided for the area that indicated attainment for the current 3-year period, then the EPA would change the designation of the area to Attainment/Unclassifiable and the designated area would be Citrus County in its entirety. Prior to the final designations in the December 2017 action, in October and November of 2017, Florida provided a new air quality modeling analysis to characterize the maximum 1-hour SO2 concentrations in the area and demonstrated attainment throughout the modeled area, (See, Chapter 9, pages 4-49 of the TSD).⁴ That modeling utilized emissions that are representative of actual emissions from the most recent available 3-year period, July 2014 through June 2017. In December 2017, Florida also submitted early-certified monitoring data through December 9, 2017, at monitoring AQS Site # 12-017-0006 in Citrus County, Florida. The EPA indicated in the TSD that if the monitor did not record 4 daily maximum 1-hour averages of 90 ppb or higher between December 10 and December 31, 2017, then the 4th highest value would be 89 ppb or less and the design value calculation for 2015-2017 would be lower than the NAAQS. Based on the above information, the EPA determined there was uncertainty whether the area was meeting the 2010 SO2 primary NAAQS based on the available monitoring data and modeling analyses, and designated a portion of Citrus County as Unclassifiable in the December 2017 final action.

³ Technical Support Document: Intended Round 3 Area Designations for the 2010 1-Hour SO2 Primary National Ambient Air Quality Standard for Florida, August 2017. https://www.epa.gov/sites/production/files/2017-08/documents/9_fl_so2_rd3-final.pdf.

⁴ Technical Support Document: Final Round 3 Area Designations for the 2010 1-Hour SO2 Primary National Ambient Air Quality Standard for Florida, December 2017. https://www.epa.gov/sites/production/files/2017-12/documents/09-fl-so2-rd3-final.pdf.

The state of Florida submitted complete, quality-assured, and certified air quality monitoring data for calendar year 2017 to the EPA by the prescribed deadline of February 28, 2018. The Florida Department of Environmental Protection (DEP) submitted a data certification letter and reports, which can be found in the docket,⁵ that show a valid, attaining 1-hour SO2 design value of 58 ppb based on complete, certified 2015-2017 data. The monitor at AQS Site # 12-017-0006 is located 3.4 miles east of Crystal River Power Plant (CRPP). The monitor has not been demonstrated to be located to characterize the maximum 1-hour SO2 concentrations near CRPP or the area. Combining Florida's October and November 2017 modeling, discussed above, with the inclusion of the 2017 data submitted for the monitor showing the attaining 3-year design values for 2015-2017, the EPA agrees with changing the initial designation for this area with respect to the 2010 SO2 primary NAAQS.

⁵ Documents EPA-HQ-OAR-2017-0003-0701, EPA-HQ-OAR-2017-0003-0702, EPA-HQ-OAR-2017-0003-0703, and EPA-HQ-OAR-2017-0003-0704 in Docket ID No. EPA-HQ-OAR-2017-0003.

Based on complete, quality-assured and certified air quality monitoring data from 2017 submitted by Florida DEP prior to the prescribed February 28, 2018, deadline, and modeling showing attainment of the 1-hour SO2 primary NAAQS in the area, the EPA is changing the initial designation status for this one area. As noted in Section II of this preamble, the EPA provided a process in the December 2017 final action for considering 2017 air quality data in the event that such data would support a change to the initial designation for an area. Pursuant to this process, the EPA is withdrawing the initial designation for the Unclassifiable area in one portion of Citrus County, Florida. The EPA is changing the initial designation of this portion of Citrus County from Unclassifiable to Attainment/Unclassifiable, thereby designating the entirety of Citrus County as Attainment/Unclassifiable. Procedurally, this change in the initial designation is consistent with our early data certification and evaluation process, as described earlier in this document and in the December 2017 action. The table at the end of this final rule (amendment to 40 CFR 81.310—Florida) lists the entire state, including the area for which the EPA is changing the initial designation. This action does not impact any areas of Indian country.

IV. Effective Date of This Action

The effective date of designation of the area addressed in this action is April 9, 2018, the same effective date as the December 2017 final action (83 FR 1098). The EPA is making these changes without notice and comment in accordance with section 107(d)(2) of the CAA, which exempts the promulgation of these designations from the notice and comment provisions of the Administrative Procedure Act (APA). Section 553(d) of the APA generally provides that rulemakings shall not be effective less than 30 days after publication except where the agency finds good cause for an earlier date. 5 U.S.C. 553(d)(1) and (3). Were the EPA not to expedite the effective date of today's action, and instead make the effective date 30 days after publication, there would be confusion regarding the appropriate designation for the affected area in Florida, and the state and the EPA would likely have to expend unnecessary time and resources at a later time to resolve that confusion. The effective date for this action is, therefore, justified because the EPA finds that there is good cause to make the rule effective immediately because it is in the public interest to avoid the potential delay and waste of resources associated with allowing the designations in the December 2017 action to go into effect for this area and the rule does not contain new requirements for which affected entities need time to prepare.

V. Comments Received During the Third Round Public Comment Period Regarding Changing Final Designations

During the public comment period for the third round of designations, Sierra Club submitted comments alleging that once the EPA provides a NAAQS designation for an area no later than December 31, 2017, it can only redesignate that area by following the applicable legal provisions for redesignation in section 107(d)(3)(E) of the CAA.⁶

⁶ Sierra Club's comment on this issue also raised questions regarding the relevant data for Citrus County. Those issues are addressed by the technical information provided earlier in this document and in the supporting TSD.

The “legal deadline” of December 31, 2017, Sierra Club refers to is a consent decree deadline by which the EPA must sign its notice of promulgation of final designations for publication in the Federal Register. The commenter is correct that section 107(d)(3)(E) of the CAA provides the legal requirements and mechanism for redesignating an area once it is designated. However, such redesignation hinges upon there being such a final and effective designation in place for an area, which is not at the time of signature by the EPA or publication of the Federal Register notice promulgating such designations. Notably, section 107(d)(2) of the CAA does not contain publication and effective date requirements applicable for promulgation of designations. The commenter, therefore, incorrectly asserts that the December 31, 2017, consent decree deadline is when “EPA makes its designation.” Accordingly, the redesignations process under section 107(d)(3)(E) of the CAA is not yet applicable at the legal deadline referenced by commenter. The EPA implemented this approach previously for the final designations for the 1997 and 2006 PM2.5 NAAQS (70 FR 19844 and 80 FR 18535). Sierra Club's comment also addresses an action that the EPA is not taking at this time, namely to revise a designation from Nonattainment to Attainment or Unclassifiable, and, thus, is not relevant to this supplemental designation action and not addressed here.

VI. Environmental Justice Concerns

When the EPA establishes a new or revised NAAQS, the CAA requires the EPA to designate all areas of the U.S. as either Nonattainment, Attainment, or Unclassifiable. Area designations address environmental justice concerns by ensuring that the public is properly informed about the air quality in an area. In locations where air quality does not meet the NAAQS, the CAA requires relevant state authorities to initiate appropriate air quality management actions to ensure that all those residing, working, attending school, or otherwise present in those areas are protected, regardless of minority and economic status. This action includes a revision to the December 21, 2017, designation for the Citrus County, Florida area based on the availability of recent air quality data showing that the area meets the 2010 SO2 primary NAAQS.

VII. Statutory and Executive Order Reviews

A. Executive Order 12866: Regulatory Planning and Review and Executive Order 13563: Improving Regulation and Regulatory Review

This action is exempt from review by the Office of Management and Budget because it responds to the CAA requirement to promulgate air quality designations after promulgation of a new or revised NAAQS.

B. Executive Order 13771: Reducing Regulations and Controlling Regulatory Costs

This action is not an Executive Order 13771 regulatory action because actions such as air quality designations after promulgating a new or revised NAAQS are exempt under Executive Order 12866.

C. Paperwork Reduction Act (PRA)

This action does not impose an information collection burden under the PRA. This action fulfills the non-discretionary duty for the EPA to promulgate air quality designations after promulgation of a new or revised NAAQS and does not contain any information collection activities.

D. Regulatory Flexibility Act (RFA)

This designation action under CAA section 107(d) is not subject to the RFA. The RFA applies only to rules subject to notice-and-comment rulemaking requirements under the APA, 5 U.S.C. 553, or any other statute. Section 107(d)(2)(B) of the CAA explicitly provides that designations are exempt from the notice-and-comment provisions of the APA. In addition, designations under CAA section 107(d) are not among the list of actions that are subject to the notice-and-comment rulemaking requirements of CAA section 307(d).

E. Unfunded Mandates Reform Act (UMRA)

This action does not contain any unfunded mandate as described in UMRA, 2 U.S.C. 1531-1538 and does not significantly or uniquely affect small governments. The action imposes no enforceable duty on any state, local, or tribal governments, or the private sector.

F. Executive Order 13132: Federalism

This action does not have federalism implications. It will not have substantial direct effects on the states, on the relationship between the national government and the states, or on the distribution of power and responsibilities among the various levels of government. The division of responsibility between the federal government and the states for purposes of implementing the NAAQS is established under the CAA.

G. Executive Order 13175: Consultation and Coordination With Indian Tribal Government.

This action does not have tribal implications, as specified in Executive Order 13175. This action concerns the designation of certain areas in the U.S. for the 2010 SO2 NAAQS. The CAA provides for states, territories, and eligible tribes to develop plans to regulate emissions of air pollutants within their areas, as necessary, based on the designations. The Tribal Authority Rule (TAR) provides tribes the opportunity to apply for eligibility to develop and implement CAA programs, such as programs to attain and maintain the SO2 NAAQS, but it leaves to the discretion of the tribe the decision of whether to apply to develop these programs and which programs, or appropriate elements of a program, the tribe will seek to adopt. This rule does not have a substantial direct effect on one or more Indian tribes. It would not create any additional requirements beyond those of the SO2 NAAQS. This rule does not impact areas of Indian country. Furthermore, this rule does not affect the relationship or distribution of power and responsibilities between the federal government and Indian tribes. The CAA and the TAR establish the relationship of the federal government and tribes in developing plans to attain the NAAQS, and this rule does nothing to modify that relationship. Thus, Executive Order 13175 does not apply.

H. Executive Order 13045: Protection of Children From Environmental Health and Safety Risks

The EPA interprets Executive Order 13045 as applying to those regulatory actions that concern environmental health or safety risks that the EPA has reason to believe may disproportionately affect children, per the definition of “covered regulatory action” in section 2-202 of the Executive Order. This action is not subject to Executive Order 13045 because it does not establish an environmental standard intended to mitigate health or safety risks.

I. Executive Order 13211: Actions That Significantly Affect Energy Supply, Distribution or Use

This action is not subject to Executive Order 13211 because it is not a significant regulatory action under Executive Order 12866.

J. National Technology Transfer and Advancement Act (NTTAA)

This rulemaking does not involve technical standards.

K. Executive Order 12898: Federal Actions To Address Environmental Justice in Minority Populations and Low-Income Populations

The EPA believes that this action does not have disproportionately high and adverse human health or environmental effects on minority populations, low-income populations and/or indigenous peoples, as specified in Executive Order 12898 (59 FR 7629, February 16, 1994). The documentation for this determination is contained in Section VI of this preamble, “Environmental Justice Concerns.”

L. Congressional Review Act (CRA)

This action is subject to the CRA, and the EPA will submit a rule report to each House of the Congress and to the Comptroller General of the U.S. This action is not a “major rule” as defined by 5 U.S.C. 804(2).

M. Judicial Review

Section 307(b)(1) of the CAA indicates which Federal Courts of Appeal have venue for petitions of review of final actions by the EPA. This section provides, in part, that petitions for review must be filed in the Court of Appeals for the District of Columbia Circuit: (i) When the agency action consists of “nationally applicable regulations promulgated, or final actions taken, by the Administrator,” or (ii) when such action is locally or regionally applicable, if “such action is based on a determination of nationwide scope or effect and if in taking such action the Administrator finds and publishes that such action is based on such a determination.”

This final action withdrawing the designation and promulgating a new initial designation of one area for the 2010 SO2 primary NAAQS is “nationally applicable” within the meaning of CAA section 307(b)(1). As explained in the preamble, this final action supplements the December 2017 final action taken by the EPA to issue a third round of designations for areas across the U.S. for the 2010 SO2 primary NAAQS. The EPA determined the December 2017 final action was “nationally applicable” within the meaning of CAA section 307(b)(1). 83 FR at 1104. The rulemaking docket, EPA-HQ-OAR-2017-0003, is the same docket for both the December 2017 final action and for this supplemental action, with the relevant difference being that in addition to the materials it contained regarding this Florida area generated through December 21, 2017—the date that action was signed by the Administrator—it now also contains the supplemental information submitted by Florida related to this area. Both the January 9, 2018, action and this supplemental action were proposed in a single September 5, 2017, notice announcing the EPA's intended Round 3 designations and were taken to discharge a duty under the court order to issue a round of designations of areas with sources meeting common criteria in the court order. As explained in the December 2017 final rule, at the core of that final action and this supplemental final action is the EPA's nationwide analytical approach and technical analysis, including evaluation of monitoring data and air quality modeling, applied to the available evidence for each area, including the EPA's interpretation of statutory terms in the CAA such as the definitions of Nonattainment, Attainment, and Unclassifiable under section 107(d)(1) of the CAA, and its application of that interpretation to areas across the country. Accordingly, the Administrator has determined that this supplemental final action, which results from the same proposed action as the December 2017 final action, is nationally applicable and is hereby publishing that finding in the Federal Register.

For the same reasons discussed above that make the final rule nationally applicable, the Administrator also is finding that this supplemental final action is based on a determination of nationwide scope and effect for the purposes of CAA section 307(b)(1). As previously explained in the December 2017 final action, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of the December 2017 final action and this supplemental final action combined will extend to numerous judicial circuits since the designations will apply to areas across the country. In these circumstances, CAA section 307(b)(1) and its legislative history calls for the Administrator to find the action to be of “nationwide scope or effect” and for venue to be in the D.C. Circuit. Therefore, like the final December 2017 final action it supplements, see 83 FR at 1104, this supplement to that final action is based on a determination by the Administrator of nationwide scope or effect, and the Administrator is, hereby, publishing that finding in the Federal Register.

Thus, any petitions for review of this supplemental final action must be filed in the U.S. Court of Appeals for the District of Columbia Circuit within 60 days from the date this supplemental final action is published in the Federal Register.

List of Subjects in 40 CFR Part 81

Air pollution control, National parks, Wilderness areas.

Dated: March 28, 2018.
E. Scott Pruitt,
Administrator.

For the reasons set forth in the preamble, 40 CFR part 81 is amended as follows:

PART 81—DESIGNATIONS OF AREAS FOR AIR QUALITY PLANNING PURPOSES

1. The authority citation for part 81 continues to read as follows:

Authority: 42 U.S.C. 7401, et seq.

Subpart C—Section 107 Attainment Status Designations

2. Section 81.310 is amended by revising the table titled, “Florida—2010 Sulfur Dioxide NAAQS (Primary)” to read as follows:

§ 81.310 Florida.

* * * * *

Florida—2010 Sulfur Dioxide NAAQS (Primary)
Designated area | Designation: Date ¹ | Designation: Type
Hillsborough County, FL ² | 10/4/13 | Nonattainment.
Hillsborough County (part)
That portion of Hillsborough County encompassed by the polygon with the vertices using Universal Traverse Mercator (UTM) coordinates in UTM zone 17 with datum NAD83 as follows: (1) Vertices-UTM Easting (m) 358581, UTM Northing 3076066; (2) vertices-UTM Easting (m) 355673, UTM Northing 3079275; (3) UTM Easting (m) 360300, UTM Northing 3086380; (4) vertices-UTM Easting (m) 366850, UTM Northing 3086692; (5) vertices-UTM Easting (m) 368364, UTM Northing 3083760; and (6) vertices-UTM Easting (m) 365708, UTM Northing 3079121
Hillsborough—Polk County, FL ³ |  | Nonattainment.
Hillsborough County (part)
Polk County (part)
That portion of Hillsborough and Polk Counties encompassed by the polygon with the vertices using Universal Traverse Mercator (UTM) coordinates in UTM zone 17 with datum NAD83 as follows: 390,500 E, 3,073,500 N; 390,500 E, 3,083,500 N; 400,500 E, 3,083,500 N; 400,500 E, 3,073,500 N |  |
Nassau County, FL ² | 10/4/13 | Nonattainment.
Nassau County (part) |  |
That portion of Nassau County encompassing the circular boundary with the center being UTM Easting 455530 meters, UTM Northing 3391737 meters, UTM zone 17, using the NAD83 datum (the location of the violating ambient monitor) and the radius being 2.4 kilometers |  |
Mulberry, FL Area ³ |  | Unclassifiable.
Hillsborough County (part) |  |
Polk County (part) |  |
That portion of Hillsborough and Polk Counties encompassed by the polygon with the vertices using Universal Traverse Mercator (UTM) coordinates in UTM zone 17 with datum NAD83 starting with the Northwest Corner and proceeding to the Northeast as follows: 390,500 E, 3,083,500 N; 410,700 E, 3,091,600 N; 412,900 E, 3,089,800 N; 412,900 E, 3,084,600 N; 400,500 E, 3,073,500 N; 400,500 E, 3,083,500 N |  |
Rest of State: ³
Alachua County |  | Attainment/Unclassifiable.
Baker County |  | Attainment/Unclassifiable.
Bay County |  | Attainment/Unclassifiable.
Bradford County |  | Attainment/Unclassifiable.
Brevard County |  | Attainment/Unclassifiable.
Broward County |  | Attainment/Unclassifiable.
Calhoun County |  | Attainment/Unclassifiable.
Charlotte County |  | Attainment/Unclassifiable.
Citrus County |  | Attainment/Unclassifiable.
Clay County |  | Attainment/Unclassifiable.
Collier County |  | Attainment/Unclassifiable.
Columbia County |  | Attainment/Unclassifiable.
DeSoto County |  | Attainment/Unclassifiable.
Dixie County |  | Attainment/Unclassifiable.
Duval County |  | Attainment/Unclassifiable.
Escambia County |  | Attainment/Unclassifiable.
Flagler County |  | Attainment/Unclassifiable.
Franklin County |  | Attainment/Unclassifiable.
Gadsden County |  | Attainment/Unclassifiable.
Gilchrist County |  | Attainment/Unclassifiable.
Glades County |  | Attainment/Unclassifiable.
Gulf County |  | Attainment/Unclassifiable.
Hamilton County |  | Attainment/Unclassifiable.
Hardee County |  | Attainment/Unclassifiable.
Hendry County |  | Attainment/Unclassifiable.
Hernando County |  | Attainment/Unclassifiable.
Highlands County |  | Attainment/Unclassifiable.
Hillsborough County (part) (remainder) |  | Attainment/Unclassifiable.
Holmes County |  | Attainment/Unclassifiable.
Indian River County |  | Attainment/Unclassifiable.
Jackson County |  | Attainment/Unclassifiable.
Jefferson County |  | Attainment/Unclassifiable.
Lafayette County |  | Attainment/Unclassifiable.
Lake County |  | Attainment/Unclassifiable.
Lee County |  | Attainment/Unclassifiable.
Leon County |  | Attainment/Unclassifiable.
Levy County |  | Attainment/Unclassifiable.
Liberty County |  | Attainment/Unclassifiable.
Madison County |  | Attainment/Unclassifiable.
Manatee County |  | Attainment/Unclassifiable.
Marion County |  | Attainment/Unclassifiable.
Martin County |  | Attainment/Unclassifiable.
Miami-Dade County |  | Attainment/Unclassifiable.
Monroe County |  | Attainment/Unclassifiable.
Nassau County (part) (remainder) |  | Attainment/Unclassifiable.
Okaloosa County |  | Attainment/Unclassifiable.
Okeechobee County |  | Attainment/Unclassifiable.
Orange County |  | Attainment/Unclassifiable.
Osceola County |  | Attainment/Unclassifiable.
Palm Beach County |  | Attainment/Unclassifiable.
Pasco County |  | Attainment/Unclassifiable.
Pinellas County |  | Attainment/Unclassifiable.
Polk County (part) (remainder) |  | Attainment/Unclassifiable.
Putnam County |  | Attainment/Unclassifiable.
St. Johns County |  | Attainment/Unclassifiable.
St. Lucie County |  | Attainment/Unclassifiable.
Santa Rosa County |  | Attainment/Unclassifiable.
Sarasota County |  | Attainment/Unclassifiable.
Seminole County |  | Attainment/Unclassifiable.
Sumter County |  | Attainment/Unclassifiable.
Suwannee County |  | Attainment/Unclassifiable.
Taylor County |  | Attainment/Unclassifiable.
Union County |  | Attainment/Unclassifiable.
Volusia County |  | Attainment/Unclassifiable.
Wakulla County |  | Attainment/Unclassifiable.
Walton County |  | Attainment/Unclassifiable.
Washington County |  | Attainment/Unclassifiable.
¹ This date is 4/9/2018, unless otherwise noted.
² Excludes Indian country located in each area, if any, unless otherwise specified.
³ Includes any Indian country in each county or area, unless otherwise specified. The EPA is not determining the boundaries of any area of Indian country in this table, including any area of Indian country located in the larger designation area. The inclusion of any Indian country in the designation area is not a determination that the state has regulatory authority under the Clean Air Act for such Indian country.

* * * * *

[FR Doc. 2018-06876 Filed 4-4-18; 8:45 am]

BILLING CODE 6560-50-P